DEPARTMENT OF COMMERCE

International Trade Administration

[A-351-838, A-331-802, A-533-840, A-549-822]

Notice of Initiation of Administrative Reviews of the Antidumping Duty Orders on Certain Frozen Warmwater Shrimp from Brazil, Ecuador, India and Thailand

AGENCY: Import Administration, International Trade Administration, Department of Commerce.

SUMMARY: The Department of Commerce (“Department”) received timely requests to conduct administrative reviews of the antidumping duty orders on certain frozen warmwater shrimp (“shrimp”) from Brazil, Ecuador, India and Thailand. The anniversary month of these orders is February. In accordance with the Department's regulations, we are initiating these administrative reviews.

EFFECTIVE DATE: April 7, 2006.

FOR FURTHER INFORMATION CONTACT: Kate Johnson at (202) 482-4929 (Brazil), David Goldberger at (202) 482-4136 (Ecuador), Elizabeth Eastwood at (202) 482-3874 (India) and Irina Itkin at (202) 482-0656 (Thailand), AD/CVD Operations, Office 2, Import Administration, International Trade Administration, U.S. Department of Commerce, 14th Street and Constitution Avenue, N.W., Washington, D.C. 20230.

SUPPLEMENTARY INFORMATION:

Background

The Department received timely requests from Petitioners¹ and certain individual companies, in accordance with 19 CFR 351.213(b), during the anniversary month of February, for administrative reviews of the antidumping duty orders on shrimp from Brazil, Ecuador, India, and Thailand covering 54 companies for Brazil, 72 companies for Ecuador, 348 companies for India, and 145 companies for Thailand. Subsequently, Petitioners withdrew one request for review for Ecuador. See Petitioners' letter dated March 1, 2006. On March 16, 2006, the Department issued a memorandum detailing Department officials' communications with Petitioners' counsel regarding concerns about the names and addresses of certain companies included in Petitioners' request for administrative reviews. See Memorandum to the File, from Irene Darzenta Tzafolias, Acting Director, AD/CVD Operations, Office 2, Re: Conversation with Petitioners' Counsel Concerning Petitioners' Requests for Administrative Reviews, dated March 16, 2006. On March 21, 2006, the Petitioners submitted a letter addressing the items outlined in the Department's memorandum of March 16, 2006. In their letter Petitioners withdrew their request for review of certain companies.² On March 29, 2006, we received letters from certain companies in Ecuador and India which were named in Petitioners' review requests, alleging certain errors in the review requests. These letters were not received in time for full consideration prior to the Department's initiation of these reviews. The Department is now initiating administrative reviews of the orders covering the remaining 50 companies for Brazil, 71 companies for Ecuador, 347 companies for India, and 145 companies for Thailand.

¹ Ad Hoc Shrimp Trade Action Committee (“Petitioners”).

² With respect to Brazil, Petitioners withdrew the request for administrative review for Potiguar Alimenbtos do Mar Ltda., the spelling of which contains a typographical error. Petitioners requested an administrative review of the company using the correct spelling, Potiguar Alimentos do Mar Ltda. With respect to India, Petitioners unintentionally duplicated a request for an administrative review of the company Tim Tim Far East Export Trading Co.(P) Ltd. The company should only have been listed once in Petitioners' administrative review requests.

Initiation of Reviews

In accordance with section 751(a)(1) of the Tariff Act of 1930, as amended (“the Act”), we are initiating administrative reviews of the antidumping duty orders on shrimp from Brazil, Ecuador, India and Thailand. We intend to issue the final results of these reviews not later than February 28, 2007.

BRAZIL
Antidumping Duty Proceeding | Period to be Reviewed
Certain Frozen Warmwater Shrimp, A-351-838 | 8/4/04 - 1/31/06
Acarau Pesca Distr. de Pesc. Imp e Exp Ltda.
Acarau Pesca Distr. de Pescado Imp E Exp Ltda.
Amazonas Industria Alimenticias SA0
Aquacultura Fortaleza Aquafort SA
Aquamaris Aquaculture SA
Aquática Maricultura do Brasil Ltda.
Artico
Bramex Brasil Mercantil Ltda.
Camanor - Produtos Marinhos Ltda.
Camaros do Brasil Ltda.
Camexim Captura Mec Exports Imports
Campi Camaroa do Piaui Ltda.
Central de Industria
Cida Central de Industria
Cida Central de Ind. E Distribuicao de Alimentos Ltda.+
Cina Companhia Nordeste de Aquicultura E Alimentação
Comercio de Pescado Aracatiense Ltda.
Compescal - Comèrcio de Pescado Aracatiense LTDA
Empaf - Empresa de Armazenagem Frigorifica Ltda.³++
Empresa de Armazenagem Frigorifica Ltda.++
Guy Vautrin Importacao & Exportaco
Ipesca
ITA Fish - S.W.F. Importacao e Exportacao Ltda.
J K Pesca Ltda.
Juno Ind & Com de Pescados
Lusomar Maricultura Ltda.
Maricultura Netuno SA++
Maricultura Rio Grandense
Maricultura Tropical
Marine Maricultura do Nordeste
Marine Maricultura do Nordeste SA
Marine Maricultura Nordeste SA
MM Monteiro Pesca E Exportacao Ltda.
Mucuripe Pesca Ltda., Epp.
Norte Pesca SA
Ortico
Pesqueira Maguary Ltda.+++
Potiguar Alimentos do Mar Ltda.
Potipora Aquacultura Ltda.
Produmar - Cia Exportadora de Produtos do Mar+
Produvale Produtos do Vale Ltda.
Qualimar Comercio Importaçao E Exportacao Ltda.
Santa Lavinia Comercio e Exportacio Ltda.
Seafarm Criacao E Comercio de Produtos Aquaticos Ltda.
Secom Aquicultura Comercio E Industria SA
SM Pescados Indùstria Comèrcio E Exportação Ltda.
SM Trading Industria E Comercio Ltda.
Sohagro Marina do Nordeste SA
Tecmares Maricultura Ltda.
Terracor Tdg Exp. E Imp. Ltda.
Torquato Pontes Pescados
Valencia da Bahia Maricultura SA
³ There was a clerical error in the original investigation preliminary margin calculation resulting in a dumping margin of zero and no suspension of liquidation for entries from this entity. As a result of correction of this clerical error, an affirmative margin resulted and suspension of liquidation began on August 30, 2004. See Notice of Amended Preliminary Determination of Sales at Less Than Fair Value: Certain Frozen and Canned Warmwater Shrimp from Brazil, 69 FR 52860 (August 30, 2004).
+ In the original investigation, the Department found that the following companies comprised a single entity: Central de Industrializacao e Distribuicao de Alimentos Ltda. and Cia. Exportadora de Produtos do Mar (Produmar).
++ In the original investigation, the Department found that the following companies comprised a single entity: Empresa de Armazenagem Frigorifica Ltda. and Maricultura Netuno S.A.
+++Petitioners' requests for review included certain companies with identical names but different addresses. For purposes of initiation, we have treated these companies as separate entities.

ECUADOR
Certain Frozen Warmwater Shrimp, A-331-802 | 8/4/04 - 1/31/06
Agricola e Ind Ecuaplantatio
Agrol
Alquimia Marina SA
Babychic SA
Brimon
Camarones
Comar Co Ltda.
Doblertel SA
Dunci SA
Eculine
Edpacif
El Rosario Ersa SA
Empacadora Bilbo Bilbosa
Empacadora del Pacifico SA, Edpacif SA
Empacadora Dufer Cia. Ltda.
Empacadora Grupo Granmar SA
Empacadora Nacional
Empacadora y Exportadora Calvi Cia. Ltda.
Empagran
Emprede
Estar CA
Exporklore Exports & Representacion
Exportadora Bananera Noboa
Exportadora del Oceano Oceanexa C. A.
Exports del Oceano
Fortumar Ecuador SA
Gambas del Pacifico
Gondi
Hectorosa
Industrial Pesquera Santa Priscila SA
Industrial Pesquera Santa Priscilla
Inepexa Inc.
Inepexa SA
Jorge Luis
Jorge Luis Benitez Lopez
Karpicorp SA
Luis Loaiza Alvarez
Mardex Cia. Ltda.
Marecuador Co Ltda.
Marines CA
Marisco
Mariscos de Chupadores Chupamar
Mariscos del Ecuador c.l. Marecuador
Mariscos del Ecuador Marecuador Co.
Negocios Industriales Real Nirsa SA
Novapesca SA
Oceaninvest SA
Oceanmundo SA
Oceanpro
Omarsa-Ope.y Proc.de Prod. Marinos SA
Oyerly SA
P.C. Seafood SA
Pacifish
PCC Congelados & Frescos SA
Pescazul
Peslasa SA
Phillips Seafoods
Procesadora del Rio Proriosa SA
Procesadora Del Rio SA Proriosa
Productos Cultivados del Mar Proc.
Promarisco
Promarosa Productos
Proriosa sa Procesadora del Rio SA
Seafood Padre Aguirre
Sociedad Atlantico Pacifico
Sociedad Nacional de Galapagos
Soitgar
Studmark SA
Tecnica & Comercio de la Pesca Teco
Transmarina C. A.
Unilines Transport System

INDIA
Certain Frozen Warmwater Shrimp, A-533-840 | 8/4/04 - 1/31/06
A.S Marine Industries Pvt Ltd.
Abad Fisheries
Accelerated Freeze Drying Co., Ltd.
Accelerated Freeze-drying Co.
Adani Exportse
Aditya Udyog
Agri Marine Exports Ltd.
AL Mustafa Exp & Imp
Alapatt Marine Exports
Alfuzz Frozen Foods Pvt. Ltd.
All Seas Marine P. Ltd.
Allana Frozen Foods Pvt. Ltd.
Allanasons Ltd.
Alsa Marine & Harvests Ltd.
Amalgam Foods & Beverages Limited
Ameena Enterprises
AMI Enterprises
Amison Foods Ltd.
Amison Seafoods Ltd.
Amulya Seafoods
Ananda Aqua Exports Private Limited
Ananda Foods
Andaman Seafoods Pvt. Ltd.
Anjaneya Seafoods
Anjani Marine Traders
Apex Exports
Aqua Star Marine Foods
Arsha Seafood Exports Pvt. Ltd.
ASF Seafoods
Ashwini Frozen Foods
Asvini Exports
Asvini Fisheries
Asvini Fisheries Limited
Asvrm Fisheries Ltd.
Aswin Associates
Atta Export
Avanti Feeds Limited
Ayshwarya Seafood Private Limited
Baby Marine (Eastern) Exports
Baby Marine Exports
Baby Marine International
Baby Marine Products
Baby Marine Sarass
Balaji Seafood Exports I Ltd.
Baraka Overseas Traders
Bell Foods (Marine Division)
Bengal Marine Pvt. Ltd.
Bharat Seafoods
Bhatsons Aquatic Products
Bhavani Seafoods
Bhisti Exports
Bijaya Marine Products
Bilal Fish Suppliers
Blue Water Foods & Exports P. Ltd.
Bluefin Enterprises
Bluepark Seafoods P. Ltd.
BMR Exports
Brilliant Exports
Britto Exports
C P Aquaculture (India) Ltd.
Calcutta Seafoods
Capital Freezing Complex
Capithan Exporting Co.
Castlecrock Seafoods Ltd.
Castlerock Fisheries Ltd.
Central Calcutta Cold Storage
Cham Exports Ltd.
Cham Ocean Treasures Co., Ltd.
Cham Trading Organization
Chand International
Chemmeens (Regd.)
Cherukattu Industries (Marine Div.)
Choice Canning Company
Choice Trading Corporation Pvt. Ltd.
Coastal Trawlers Ltd.
Cochin Frozen Food Exports Pvt. Ltd.
Corlim Marine Exports Pvt. Ltd.
Corline Exports
Danda Fisheries
Dariapur Aquatic Pvt. Ltd.
Deepmala Marine Exports
Devi Fisheries Limited
Devi Marine Food Exports Ltd.
Devi Marine Food Exports Private Limited
Devi Seafoods Limited
Devi Seafoods Pvt. Ltd.
Dhanamjaya Impex P. Ltd.
Diamond Seafoods Exports
Digha Seafood Exports
Dorothy Foods
Edhayam Frozen Foods Pvt. Ltd.
El-Te Marine Products
Esmorio Export Enterprises
Excel Ice Services/Chirag Int'l
Exporter Coreline Exports
Falcon Marine Exports Limited
Fernando Intrcontinental
Firoz & Company
Five Star Marine Exports
Five Star Marine Exports Private Limited
Forstar Frozen Foods Pvt. Ltd.
Freeze Engineering Industries (Pvt. Ltd.)
Frigerio Conserva Allana Limited
Frontline Exports Pvt. Ltd.
G A Randerian Ltd.
G.K S Business Associates Pvt. Ltd.
Gadre Marine Exports
Gajula Exim P. Ltd.
Galaxy Maritech Exports P. Ltd.
Gausia Cold Stoiage P. Ltd.
Gayathri Seafoods
Geo Aquatic Products (P) Ltd.
Geo Seafoods
Global Sea Foods & Hotels Ltd.
Goan Bounty
Gold Farm Foods (P) Ltd.
Golden Star Cold Stoiage
Gopal Seafoods
Grandtrust Overseas (P) Ltd.
Gtc Global Ltd.
GVR Exports
GVR Exports Pvt. Ltd.
HA & R Enterprises
Hanjar Ice and Cold Storage
Hanswati Exports P. Ltd.
Haripriya Marine Food Exports
HIC ABF Special Foods Pvt. Ltd.
Hindustan Lever, Ltd.
Hiravata Ice & Cold Storage
Hiravati Exports Pvt. Ltd.
Hiravati International P. Ltd.
HMG Industries Ltd.
Honest Frozen Food Company
I Ahamed & Company
IFB Agro Industries Ltd. (Aquatic & Marine Products Div.)
India Seafoods
Indian Aquatic Products
Indian Seafood Corporation
Indo Aquatics
Innovative Marine Foods Limited/Amalgam Foods Limited
Interfish
International Freezefish Exports
InterSea Exports Corporation
Interseas
ITC Ltd.
J R K Seafoods Pvt. Ltd.
Jagadeesh Marine Exports
Jaya Satya Marine Exports
Jayalakshmi Seafoods (P) Ltd.
Jaya Lakshmi Sea Foods Pvt. Ltd.
Jinny Marine Traders
K.R.M. Marine Exports
K R M Marine Exports Ltd.
K.V Marine Exports
Kadalkanny Frozen Foods
Kader Exports
Kader Exports Private Limited
Kader Investment and Trading Company Private Limited
Kalyanee Marine
Kaushalya Aqua Marine Product Exports Pvt. Ltd.
Kay Kay Exports
Keshodwala Foods
Key Foods
King Fish Industries
Kings Marine Products
KNR Marine Exports
Koluthara Exports Ltd.
Konark Aquatics & Exports Pvt. Ltd.
Konkan Fisheries Pvt. Ltd.
L.G Seafoods
Lakshmi Marine Products
Lansea Foods Pvt. Ltd.
Laxmi Narayan Exports
Lewis Natural Foods Ltd.
Liberty Frozen Foods Private Limited
Liberty Group
Liberty Oil Mills
Libran Cold Storages (P) Ltd.
Lotus Sea Farms
Lourde Exports
M K Exports
M.R.H. Trading Company
Magnum Estate Private
Magnum Estate Private Limited
Magnum Exports
Magnum Seafoods Pvt. Ltd.
Malabar Marine Exports
Malnad Exports Pvt. Ltd.
Mamta Cold Storage
Mangala Marine Exim Pvd. Ltd.
Mangala Sea Products
Manufacturer Falcon Marine Exports
Marina Marine Exports
Marine Food Packers
Markoorlose Sea Foods
Meenaxi Fisheries Pvt. Ltd.
Miki Exports International
MSC Marine Exporters
Msngr Aqua Intl
Mumbai Kamgar MGSM Ltd.
N.C Das & Company
Naga Hanuman Fish Packers
Naik Ice & Cold Storage
Naik Seafoods Ltd.
Nas Fisheries Pvt Ltd.
National Seafoods Company
National Steel
National Steel & Agro Ind.
Navayuga Exports Ltd.
Navyauga Exports
Nekkanti Sea Foods Limited
New Royal Frozen Foods
NG.R Aqua International
Nila Seafoods Pvt. Ltd.
Noble Aqua Pvt. Ltd.
Noorani Exports Pvt. Ltd.
Nsil Exports
Omsons Marines Ltd.
Overseas Marine Export
Padmaja Exports
Partytime Ice Pvt Ltd.
Penver Products (P) Ltd.
Philips Foods India Pvt Ltd.
Pijikay International Exports P Ltd.
Pisces Seafood International
Premier Exports International
Premier Marine Foods
Premier Marine Products
Premier Seafoods Exim (P) Ltd.
Pronto Foods Pvt. Ltd.
R F. Exports
R K Ice & Cold Storage
Raa Systems Pvt. Ltd.
Rahul Foods (GOA)
Rahul International
Raj International
Raju Exports
Ramalmgeswara Proteins & Foods Ltd.
Rameshwar Cold Storage
Ram's Assorted cold Storage Ltd.
Raunaq Ice & Cold Storage
Ravi Frozen Foods Ltd.
Raysons Aquatics Pvt. Ltd.
Razban Seafoods Ltd.
RBT Exports
Reddy & Reddy Importers & Exports
Regent Marine Industries
Relish Foods
Riviera Exports Pvt. Ltd.
Rohi Marine Private Ltd.
Royal Cold Storage India P Ltd.
Royal Link Exports
Rubian Exports
Ruby Marine Foods
Ruchi Worldwide
RVR Marine Products
S & S Seafoods
S A Exports
S B Agro (India) Ltd.
S Chanchala Combines
S K Exports (P) Ltd.
S S International
Saanthi Seafoods Ltd.
Sabri Food Products
Safa Enterprises
Sagar Foods
Sagar Grandhi Exports Pvt. Ltd.
Sagar Samrat Seafoods
Sagrvihar Fisheries Pvt. Ltd., 9
Sai Marine Exports Pvt. Ltd.
Salet Seafoods Pvt Ltd.
Samrat Middle East Exports (P) Ltd.
Sanchita Marine Products P Ltd.
Sandhya Marines Limited
Santhi Fisheries & Exports Ltd.
Sarveshwari Ice & Cold Storage P Ltd.
Satya Seafoods Private Limited
Satyam Marine Exports
Sawant Food Products
Sea Rose Marines (P) Ltd.
Seagold Overseas Pvt. Ltd.
Sealand Fisheries Ltd.
Seaperl Industries
Selvam Exports Private Limited
Sharon Exports
Shart Industries Ltd.
Sheimar Seafoods Ltd.
Shimpo Exports
Shipper Exporter National Steel
Shivaganga Marine Products
Shroff Processed Food & Cold ZStorage P Ltd.
Siddiq Seafoods
Silver Seafood
Sita Marine Exports
Skyfish
SLS Exports Pvt. Ltd.
Sonia Fisheries
Sourab
Sprint Exports
Sree Vaialakshrm Exports
Sreevas Export Enterprises
Sri Chandrakantha Marine Exports, Ltd.
Sri Sakthi Marine Products P Ltd.
Sri Satya Marine Exports
Sri Sidhi Freezers & Exporters Pvt. Ltd.
Sri Venkata Padmavathi Marine Foods Pvt. Ltd.
SSFLtd.
Star Agro Marine Exports Private Limited
Star Fish Exports
Sterling Foods
Sun-Bio Technology Limited
Supreme Exports
Surya Marine Exports
Suvarna Rekha Exports Private Limited
Suvarna Rekha Marines P Ltd.
Swarna Seafoods Ltd.
TBR Exports Pvt Ltd.
Teekay Maine P. Ltd.
The Canning Industries (Cochin) Ltd.
The Waterbase Ltd.
Theva & Company
Tim Tim Far East Export Trading Co.(P) Ltd.
Tony Harris Seafoods Ltd.
Tri Marine Foods Pvt. Ltd.
Trinity Exports
Tri-Tee Seafood Company
Triveni Fisheries P Ltd.
Ulka Seafoods (P) Ltd.
Uniroyal Marine Exports Ltd.
Universal Cold Storage Limited
Upasana Exports
Usha Seafoods
V Marine Exports
V.S Exim Pvt Ltd.
Vaibhav Sea Foods
Varnita Cold Storage
Veejay Impex
Veraval Marines & Chemicals P Ltd.
Victoria Marine & Agro Exports Ltd.
Vijayalaxmi Seafoods
Vinner Marine
Waterbase
Wellcome Fisheries Limited
Wellcome Fisheries (P) Ltd.
Winner Seafoods
Wisdom Marine Exports
Z A. Food Products

THAILAND
Certain Frozen Warmwater Shrimp, A-549-822 | 8/4/04 - 1/31/06
ACU Transport
Ampai Frozen Food Co., Ltd.
Andaman Seafood Co., Ltd.*
Anglo-Siam Seafoods Co., Ltd.
Applied DB Ind
AS Intermarine Foods Co., Ltd.
Asian Seafoods Cold Storage Public Co., Ltd.
Asian Seafoods Coldstorage (Suratthani) Company Limited
Asia Pacific Thailand
Assoc. Commercial Systems
Bangkok Dehydrated Marine Product Co., Ltd.
Bright Sea Co., Ltd. **
C.Y. Frozen Food Co., Ltd.
Capital Food Trade Limited
Chaivaree Marine Products Co., Ltd.
Chaiwarut Co., Ltd.
Chantaburi Seafood Co., Ltd.*, ****
Chanthaburi Frozen Foods Co., Ltd.*
Charoen Pokphand Foods Plc
Chonburi L C
Chue Eie Mong Eak
C P Mdse
Crystal Frozen Foods
Daedong (Thailand) Co. Ltd.
Daiei Taigen (Thailand) Co., Ltd.
Daiho (Thailand) Co., Ltd.
Dynamic Intertransport
Euro-Asian International Seafoods Co., Ltd.
Far East Cold Storage Co., Ltd.
Fait
Findus (Thailand) Co., Ltd.
Fortune Frozen Foods (Thailand) Co., Ltd.
Frozen Marine Products Co., Ltd.
Gallant Ocean (Thailand) Co., Ltd.
Good Fortune Cold Storage Co., Ltd.
Good Luck Products Co., Ltd.
Haitai Seafood Co., Ltd.***
Ham Intl
Heng Seafood Ltd. Part.
Heritrade
High Way International Co., Ltd.
Instant Produce
Inter-Oceanic Resources Co., Ltd.***
Inter-Pacific Marine Products Co., Ltd.
K D Trdg
Kiang Huat Sea Gull Trading Frozen Food Public Co., Ltd.
Kingfisher Holdings Ltd.***
Kitchens of the Ocean (Thailand) Ltd.
Klang Co., Ltd.
Klang Co., Ltd.
Kongphop Frozen Foods Co., Ltd.
Lee Heng Seafood Co., Ltd.
Leo Transports
Li-Thai Frozen Foods Co., Ltd.
Lucky Union Foods
Magnate & Syndicate Co., Ltd.
Mahachai Food Processing Co., Ltd.
Marine Gold Products Co., Ltd.
May Ao Co., Ltd.
May Ao Foods Co., Ltd.
Merkur Co., Ltd.
Ming Chao Ind Thailand
MKF Interfood
N&N Foods Co., Ltd.
Namprik Maesri
Narong Seafood Co., Ltd.***
Nongmon SMJ Products
N R Instant Produce
Ongkorn Cold Storage Co., Ltd.
Pacific Queen Co., Ltd.
Pakfood Public Company Limited
Penta Impex
Preserved Foods
Phattana Seafood Co., Ltd.*
Piti Seafoods Co., Ltd.
Premier Frozen Products Co., Ltd.
Queen Marine Food Co., Ltd.
Rayong Coldstorage (1987) Co., Ltd.
Samui Foods
S&D Marine Products Co., Ltd.
S.C.C. Frozen Seafood Co., Ltd.*
SCT Co., Ltd.
S. Chaivaree Cold Storage Co., Ltd.
Sea Bonanza Food Co., Ltd.***
Seafoods Enterprise Co., Ltd.
Seafresh Industry Public Co., Ltd.
Seafresh Fisheries
Search & Serve
Shianlin Bangkok Co., Ltd.***
Siam Food Supply Co., Ltd.
Siam Intersea Co., Ltd.
Siamchai International Food Co., Ltd.
Siam Marine Products
Siam Ocean Frozen Foods
Siam Union Frozen Foods
Sky Fresh
S Khonkaen Food Ind Public
S Khonkaen Food Ind
Smile Heart Foods
SMP Food Products Co., Ltd.
Songkla Canning
STC Foodpak Co., Ltd.
Suntechthai Intertrdg
Surapon Seafoods Public Co., Ltd.
Surapon Nichirei Foods Co., Ltd.
Surat Seafood Co., Ltd
Suratthani Marine Products Co., Ltd.
Suree Interfoods
Takzin Ssmut
Tey Seng Cold Storage Co., Ltd.
Tep Kinsho Foods
Teppitak Seafood
Thai Agri Foods
Thai Excel Foods Co., Ltd.
Thai I-Mei Frozen Foods Co., Ltd.
Thai International Seafoods Co., Ltd.*, ****
Thai Mahachai Seafood Products Co., Ltd.
Thai Prawn Culture Center Co., Ltd.
Thai Royal Frozen Food
Thai Spring Fish Co., Ltd.
Thai Union Frozen Products Public Co., Ltd.
Thai Union Mfg.
Thai Union Seafood Co., Ltd.
Thai-Ger Marine Co., Ltd
Thailand Fishery Cold Storage Public Co., Ltd.*
Thai World Imports & Exports
Thai Yoo
Thanaya Intl
The Siam Union Frozen Food Co., Ltd.
The Union Frozen Products Co., Ltd.**
Trang Seafood Products Public Co., Ltd.
Transamut Food Co., Ltd.
United Cold Storage Co., Ltd.
Wales & Co. Universe Ltd.*
Wann Fisheries Co., Ltd.
Xian - Ning Seafood Co., Ltd.
Y2K Frozen Foods Co., Ltd.*
Yeenin Frozen Foods Co., Ltd.
Yong Siam Enterprise Co., Ltd.
* In the original investigation, the Department found that the following companies comprised a single entity: Andaman Seafood Co., Ltd., Chantaburi Seafood Co., Ltd., Chanthaburi Frozen Foods Co., Ltd., Phattana Seafood Co., Ltd., S.C.C. Frozen Seafood Co., Ltd., Thai International Seafoods Co., Ltd., Thailand Fishery Cold Storage Public Co., Ltd., Wales & Co. Universe Ltd., and Y2K Frozen Foods Co., Ltd.
** In the original investigation, the Department found that the following companies comprised a single entity: Union Frozen Products Co., Ltd. and Bright Sea Co., Ltd.
***Petitioners' requests for review included certain companies with identical names but different addresses. For purposes of initiation, we have treated these companies as separate entities.
****Petitioners requested that the Department conduct an administrative review of this company, but provided two different addresses for the same company. According to the record of the less-than-fair-value investigation, one of the addresses pertains to the company's office and the other pertains to the plant/factory. See the memorandum from The Team to the File entitled “Placing Information on the Record of the 2004-2006 Administrative Review on Certain Frozen Warmwater Shrimp from Thailand,” dated March 31, 2006.

Selection of Respondents

Section 777A(c)(1) of the Act directs the Department to calculate individual dumping margins for each known exporter and producer of the subject merchandise. Where it is not practicable to examine all known producers/exporters of subject merchandise because of the large number of such companies, section 777A(c)(2) of the Act permits the Department to limit its examination to either: (1) a sample of exporters, producers or types of products that is statistically valid based on the information available at the time of selection; or (2) exporters and producers accounting for the largest volume of subject merchandise from the exporting country that can be reasonably examined.

Due to the large number of firms requested for these administrative reviews and the resulting administrative burden to review each company for which a request has been made, the Department is considering exercising its authority to limit the number of respondents selected for review. See section 777A(c)(2) of the Act.

The Department has not yet determined the appropriate methodology to employ in limiting respondent selection. As described above, the Department may use a statistically valid sample or select the largest exporters and producers, by volume. Should the Department determine to sample the exporters, it will employ the following procedures: the Department will 1) issue a letter to the interested parties detailing the proposed sampling methodology; 2) after analyzing the parties' comments, finalize its sampling methodology; 3) notify the parties and invite them to send a representative to witness the sampling selection; 4) conduct the sampling exercise; 5) notify all interested parties of the selection outcome of the sampling exercise (selected respondents will be issued the full antidumping questionnaire); and 6) record the results in a memorandum to the file.

Withdrawal of Request For Administrative Review

Section 351.213(d)(1) of the Department's regulations provides that the Secretary will rescind an administrative review if the party that requested the review withdraws the request within 90 days of the date of publication of the notice in the Federal Register. Although the regulation provides that the Secretary may extend this deadline, it is unlikely that the Department will be able to grant any such extensions for these particular administrative reviews, due to the time constraints imposed by our statutory deadlines.⁴

⁴ Should the Department use sampling, the need to preserve the statistical validity of the sampling methodology will further limit the Department's ability to grant such extensions.

Quantity and Value (“Q&V”) Questionnaire

In advance of issuance of the antidumping questionnaire, we will also be requiring all parties for whom a review is requested to respond to a Q&V questionnaire, which will request information on the respective quantity and U.S. dollar sales value of all exports of shrimp to the United States during the period August 4, 2004, through January 31, 2006. The Q&V questionnaire will be available on the Department's website at http://ia.ita.doc.gov/ on April 3, 2006. The responses to the Q&V questionnaire are due to the Department by close of business on April 28, 2006. Due to the time constraints imposed by our statutory and regulatory deadlines, the Department may be unable to grant any extensions for the submission of the Q&V questionnaire responses. In responding to the Q&V questionnaire, please refer to the instructions contained in the Q&V questionnaire.

Notice

This notice constitutes public notification to all firms requested for review that a complete response to the Q&V questionnaire, within the time limits established in this notice of initiation is required in order for such information to receive consideration. For parties that fail to timely respond to the Q&V questionnaire, the Department may resort to the use of facts otherwise available, and may employ an adverse inference if the Department determines that the party failed to cooperate by not acting to the best of its ability. All information submitted by respondents in these administrative reviews is subject to verification. As discussed above, due to the large number of parties in these proceedings, and the Department's need to complete its proceedings within the statutory deadlines, the Department will be limited in its ability to extend deadlines on the above submissions. As noted above, the Q&V questionnaire will be available on the Department's website at http://ia.ita.doc.gov/ on April 3, 2006.

Interested parties must submit applications for disclosure under administrative protective orders in accordance with 19 CFR 351.305. Instructions for filing such applications may be found on the Department's website at http://ia.ita.doc.gov/.

This initiation and notice are in accordance with section 751(a)(1) of the Act and 19 CFR 351.221(c)(1)(i).

Dated: March 31, 2006.
Irene Darzenta Tzafolias,
Acting Director, AD/CVD Operations, Office 2, for Import Administration.

[FR Doc. E6-5117 Filed 4-6-06; 8:45 am]

Billing Code: 3510-DS-S